DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the name of one vessel that has been removed from the Specially Designated Nationals and Blocked Person List (SDN List). Additionally, OFAC is publishing updates to the identifying information of two vessels currently identified as blocked property on the SDN List. All property and interests relating to these vessels that are subject to U.S. jurisdiction remain blocked, and U.S. persons are generally prohibited from engaging in transactions relating to these vessels.

DATES: See Supplementary Information section for applicable date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

A. On September 2, 2021, OFAC determined that circumstances no longer warrant the inclusion of the following vessel on the SDN List under the relevant sanctions authority listed below.

Vessel

1. HERMANN (CL2685) General Cargo 2,597DWT 1,098GRT Cuba flag (Compania Navegacion Golfo S.A.) (vessel) [CUBA]. Added to the SDN List on October 21, 1988 pursuant to one or more of the criteria under the Cuban Assets Control Regulations, 31 CFR part 515 (CACR) and Sections 5 and 16 of the Trading With the Enemy Act, 50 U.S.C. App. §§ 5, 16 (TWEA).

B. On September 2, 2021, OFAC updated the entries on the SDN List for the following vessels, which continue to be identified as blocked property under the relevant sanctions authority listed below.

Vessels

1. SAND SWAN (f.k.a. “ANA I”) (P3QG3) General Cargo 2,595DWT 1,116GRT Cyprus flag (Sand & Swan Navigation Co. Ltd.) (vessel) [CUBA].

-to-

EBANO (f.k.a. “ANA I”; f.k.a. “SAND SWAN”) General Cargo 2,595DWT 1,865GRT Panama flag; Vessel Registration Identification IMO 7406784 (vessel) [CUBA].

Blocked pursuant to one or more of the criteria under the CACR and the TWEA.

2. TIFON (CL2059) Tug 164GRT Cuba flag (Samir de Navegacion S.A.) (vessel) [CUBA].

-to-

TIFON (CL2059) Tug 189GRT Cuba flag; Vessel Registration Identification IMO 7206512 (vessel) [CUBA].

Blocked pursuant to one or more of the criteria under the CACR and the TWEA.

Dated: September 2, 2021.
Bradley T. Smith,
Acting Director, Office of Foreign Assets Control, U.S. Department of the Treasury.

[FR Doc. 2021-19378 Filed 9-7-21; 8:45 am]

BILLING CODE 4810-AL-P